ENVIRONMENTAL PROTECTION AGENCY

40 CFR Part 431

[FRL-6562-3]

Amendment to the Effluent Limitations Guidelines, Pretreatment Standards, and New Source Performance Standards for the Builders' Paper and Board Mills Point Source Category; Technical Amendment; Removal

AGENCY: Environmental Protection Agency (EPA).

ACTION: Final rule; technical amendment.

SUMMARY: This action removes duplicative regulatory language for the Builders' Paper and Board Mills Point Source Category. The regulatory requirements for this category are already included in regulations related to the Secondary Fiber, Non-Deink Subcategory of the Pulp, Paper, and Paperboard Point Source Category.

DATES: Effective on March 21, 2000.

FOR FURTHER INFORMATION CONTACT: Mark A. Perez, Engineering and Analysis Division (4303), U.S. Environmental Protection Agency, 401 M Street SW, Washington, DC 20460; call (202) 260-2275 or e-mail: perez.mark@epa.gov.

SUPPLEMENTARY INFORMATION:

Need for Removing 40 CFR Part 431

On April 15, 1998, EPA promulgated effluent limitations guidelines and standards, under the Clean Water Act (CWA), for a portion of the pulp, paper and paperboard industry. 63 FR 18504. EPA also promulgated national emission standards for hazardous air pollutants (NESHAP) under the Clean Air Act (CAA) as amended in 1990, for the pulp and paper production source category. Id. In that rulemaking, known as the Cluster Rules, EPA reorganized 26 subcategories (formerly found in parts 430 and 431) into 12 new subcategories. See 63 FR 18637. In reorganizing the subcategories, mills formerly in the Builders' Paper and Board Mills Point Source Category (part 431) were placed under the Secondary Fiber Non-Deink Subcategory (part 430, subpart J). EPA did not make any substantive changes to the limitations and standards applicable to mills in this subcategory in the April 15, 1998 rule, but simply reprinted in their entirety the current effluent limitations guidelines and standards applicable to these mills. Thus, the regulations codified under part 431 are now duplicative and are removed by this action.

Administrative Requirements and Related Government Acts

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because the revisions in this final rule are not substantive. Today's correction removes redundant regulatory language for the Builders' Paper and Board Mills Point Source Category. The same requirements for this category appear in 40 CFR parts 430 and 431. This action removes the redundant part 431 requirements. Thus, notice and public procedure are unnecessary. EPA finds that this constitutes good cause under 5 U.S.C. 553(b)(B). For the same reason, the Agency has determined that good cause exists to waive the requirement under 5 U.S.C. 553(d) that a rule be published not less than 30 days before its effective date. In this case, the revision in today's final rule is not substantive in nature because it withdraws duplicative requirements. Therefore, the amendments are effective immediately.

Under Executive Order 12866 (58 FR 51735, October 4, 1993), this action is not a “significant regulatory action” and is therefore not subject to review by the Office of Management and Budget. Because the Agency has made a “good cause” finding that this action is not subject to notice-and-comment requirements under the Administrative Procedure Act or any other statute, as described above, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose significant intergovernmental mandates, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997) because it is not economically significant.

This technical correction action does not involve technical standards; thus, the requirements of section 12(d) of the National Technology Transfer and Advancement Act of 1995 (15 U.S.C. 272 note) do not apply. The rule also does not involve special consideration of environmental justice related issues as required by Executive Order 12898 (59 FR 7629, February 16, 1994). This rule does not impose an information collection burden under the provisions of the Paperwork Reduction Act of 1995 (44 U.S.C. 3501 et seq.). EPA's compliance with these statutes and Executive Orders for the underlying rule is discussed in the April 15, 1998 Federal Register document.

In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings” issued under the executive order.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefor, and established an effective date of March 21, 2000. EPA will submit a report containing this rule and other required information to the U.S. Senate, the U.S. House of Representatives, and the Comptroller General of the United States prior to publication of the rule in the Federal Register. This action is not a “major rule” as defined by 5 U.S.C. 804(2).

List of Subjects in 40 CFR Part 431

Environmental protection, Paper and paper products industry, Waste treatment and disposal, Water pollution control.

Dated: March 8, 2000.
J. Charles Fox,
Assistant Administrator for Water.

PART 431—[REMOVED]

Accordingly under the authority of Sections 301, 304(b), (c), (e), and (g), 306(b) and (c), 307(b) and (c), and 501 of the Clean Water Act (the Federal Water Pollution Control Act Amendments of 1972, as amended by the Clean Water Act of 1977) (the “Act”); 33 U.S.C. 1311, 1314(b), (c), (e), and (g), 1316(b) and (c), 1317(b) and (c), and 1361; 86 Stat. 816, Public Law 92-500; 91 Stat. 1567, Public Law 95-217, 40 CFR part 431 is removed and reserved.

[FR Doc. 00-6975 Filed 3-20-00; 8:45 am]

BILLING CODE 6560-50-P